DEPARTMENT OF TRANSPORTATION

Office of the Secretary

Aviation Proceedings, Agreements Filed the Week Ending April 6, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-27825.

Date Filed: April 5, 2007.

Parties: Members of the International Air Transport Association.

Subject: Mail Vote 532—Resolution 010n, TC3 Special Passenger Amending Resolution Between Japan and China (excluding Hong SAR and Macao SAR) (Memo 1076).

Intended effective date: 15 April 2007.

Barbara J. Hairston,
Supervisory Docket Officer, Docket Operations, Alternate Federal Register Liaison.

[FR Doc. E7-7246 Filed 4-16-07; 8:45 am]

BILLING CODE 4910-9X-P